DEPARTMENT OF JUSTICE

Bureau of Prisons

Notice of Intent to Prepare a Draft Environmental Impact Statement (EIS) for Development of a United States Penitentiary (USP) and Federal Prison Camp (FPC) by the U.S. Department of Justice, Federal Bureau of Prisons (Bureau) on Land Under Consideration for Development Located in Letcher County, Kentucky

AGENCY: Federal Bureau of Prisons, U. S. Department of Justice.

ACTION: Notice of intent to prepare a Draft Environmental Impact Statement (EIS).

SUMMARY:

Background

The Bureau was established in 1930 to provide more progressive and humane care for federal inmates, to professionalize the prison service, and to ensure consistent and centralized administration of federal prisons. The mission of the United States (U.S.) Department of Justice, Federal Bureau of Prisons is to protect society by confining offenders in the controlled environments of prison and community-based facilities that are safe, humane, cost-efficient, and appropriately secure, and that provide work and other self-improvement opportunities to assist offenders in becoming law-abiding citizens. The Bureau accomplishes its mission through the appropriate use of community correction, detention, and correctional facilities that are: Federally-owned and operated; Federally-owned and non-Federally operated; and non-Federally owned and operated.

The federal inmate population has grown continuously since the 1980s. In 1981, the federal inmate population consisted of approximately 23,800 inmates. By 1986, the federal inmate population had increased to about 38,700, a 63 percent increase. Growth continued at a steady rate through the 1990s, and in 1998 the federal inmate population had grown 280 percent, reaching 108,000 inmates. As of March 30, 2013, the Bureau inmate population reached 218,123; this includes 176,039 inmates being housed in 119 Bureau institutions, 29,075 being housed in privately-managed secure facilities, and 13,009 being housed in other contract care. Of the 176,039 inmates housed in Bureau institutions, 22,651 are high-security inmates. The Bureau houses these 22,651 high-security inmates in 19 USPs located throughout six regions within the US: The Mid-Atlantic Region; North Central Region; Northeast Region; South Central Region; Southeast Region; and Western Region. Each region provides facilities for housing inmates at all security levels. The 19 USPs are rated for a total capacity of 14,909 high-security inmates. Therefore, the Bureau is currently 53 percent overcrowded at their high-security institutions and are operating at above rated capacity for their USPs.

The inmate population is continuing to grow throughout the regions and security levels. To meet the current and projected bed space needs, the Bureau evaluates the bedspace needs of the regions using a geographically balanced program. When considering placement of an individual the Bureau does consider the origin of the inmate and attempts to place the inmate in an institution that is within the region of the inmate's origin. Placing inmates within their region of origin provides greater opportunity for visitation with family, which aids in the rehabilitation process.

Proposed Action

The proposed action being evaluated in this Draft EIS is the acquisition of property and the construction of a federal correctional facility in Letcher County, Kentucky. The Bureau proposes to acquire approximately 800 acres of land to construct a USP (approximately 61,654 square feet) and FPC (approximately 6,063 square feet) in Letcher County. Inmates housed in the USP would be high-security male inmates and those housed in the FPC would be minimum security male inmates. The facilities would house approximately 1,200 total inmates (approximately 1,088 within the USP and approximately 128 within the FPC). In addition to the USP and FPC, several ancillary facilities necessary for the operation of the USP and FPC would be constructed.

These facilities include the following:

• Central Utility Plant—1,217 square feet

• Firing Range—96 square feet

• Outside Warehouse—3,279 square feet

• UNICOR Warehouse—1,375 square feet

• Staff Training Building—910 square feet

Operation of the USP and FPC would employ approximately 300 full-time staff.

The Process

The process of evaluating the potential environmental impacts associated with federal correctional facility development and operation involves the analysis of many factors and features including, but not limited to: Topography, geology, soils, hydrology, biological resources, cultural resources, hazardous materials, visual and aesthetic features, fiscal considerations, population/employment/housing characteristics, community services and facilities, land uses, utility services, transportation systems, air quality, and noise.

Alternatives

The No Action Alternative, other actions considered, but not carried forward, and alternative development areas for the proposed USP and FPC will be analyzed in this Draft EIS. The proposed sites to be examined consist of non-Bureau property near Whitesburg, Letcher County, Kentucky.

Scoping Process

During the preparation of the Draft EIS, there will be opportunities for public involvement in order to determine the issues to be examined. The first opportunity will be during the project scoping period which will begin on July 26, 2013 with the publication of the Notice of Intent to prepare a Draft EIS in the Federal Register. Publication in the Federal Register will begin the 30-day public scoping period, which will end on August 26, 2013. During this 30-day public scoping period, a public Scoping Meeting will be held between 5:30 p.m. and 8:00 p.m. on August 13, 2013 at the Letcher County Central High School located at 435 Cougar Drive, Whitesburg, Kentucky. The meeting location, date, and time will be well publicized and has been arranged to allow for the public, as well as interested agencies and organizations to attend. The meetings are being held to allow interested persons to formally express their views on the scope and significant issues to be studied as part of the EIS process. The Scoping Meeting will provide for timely public comments and understanding of federal plans and programs with possible environmental consequences as required by the National Environmental Policy Act of 1969, as amended, and the National Historic Preservation Act of 1966, as amended.

EIS Preparation

Public notice will be given concerning the availability of the Draft EIS for public review and comment.

ADDRESSES: Questions concerning the proposed action and the EIS may be directed to: Bridgette Lyles, Site Selection Specialist, Capacity Planning and Site Selection Branch, U.S. Department of Justice, Federal Bureau of Prisons, 320 First Street NW., Washington, DC 20534, blyles@bop.gov,siteselection@bop.gov, Telephone (202) 514-6470, Telefacsimile (202) 616-6024.

All comments regarding the scoping process must be received or postmarked by August 26, 2013 for consideration in the preparation of the EIS.

Dated: July 18, 2013.
Bridgette Lyles,
Site Selection Specialist, Capacity Planning and Site Selection Branch.

[FR Doc. 2013-17810 Filed 7-25-13; 8:45 am]

BILLING CODE P